DEPARTMENT OF THE TREASURY

Office of Foreign Assets Control

Additional Designations, Foreign Narcotics Kingpin Designation Act

AGENCY: Office of Foreign Assets Control, Treasury.

ACTION: Notice.

SUMMARY: The U.S. Department of the Treasury 's Office of Foreign Assets Control (“OFAC”) is publishing the names of seven individuals and ten entities whose property and interests in property have been blocked pursuant to the Foreign Narcotics Kingpin Designation Act (“Kingpin Act”) (21 U.S.C. 1901-1908, 8 U.S.C. 1182).

DATES: The designation by the Director of OFAC of the seven individuals and ten entities identified in this notice pursuant to section 805(b) of the Kingpin Act is effective on February 27, 2014.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On February 27, 2014, the Director of OFAC designated the following seven individuals and ten entities whose property and interests in property are blocked pursuant to section 805(b) of the Kingpin Act.

Individuals

1. AMARILLAS LOPEZ, Gabriela, Av. de la Mancha # 738 A, Col. Lomas de Zapopan, Zapopan, Jalisco 45130, Mexico; Av. Rio Choix 824, Culiacan, Sinaloa, Mexico; DOB 21 Sep 1979; POB Culiacan, Sinaloa, Mexico; C.U.R.P. AALG790921MSLMPB09 (Mexico) (individual) [SDNTK] (Linked To: CASA DE EMPENO GUADALAJARA, S.A. DE C.V.).

2. CUELLAR HURTADO, Hugo, Av. Artesanos 1498, Colonia Oblatos, Zapopan, Jalisco, Mexico; Calle Paseo de la Pradera 23, Fraccionamiento Royal Country, Zapopan, Jalisco, Mexico; Kr 76 173 45 In 4, Bogota, Colombia; Trv 176 N 56 25, Bogota, Colombia; DOB 18 May 1947; POB Florencia, Caqueta, Colombia; Cedula No. 17622278 (Colombia); C.U.R.P. CUHH470518HNELRG00 (Mexico) (individual) [SDNTK] (Linked To: AGRICOLA Y GANADERA CUEMIR, S.P.R. DE R.I.; Linked To: AGRO Y COMERCIO DE SANTA BARBARA LAGROMER S. EN C.; Linked To: COMPANIA AGRO COMERCIAL CUETA S. EN C.; Linked To: COOPERATIVA AVESTRUZ CUEMIR, S.C. DE R.L. DE C.V.; Linked To: INVERSIONES HUNEL LTDA.; Linked To: CASA COMERCIAL UNI QUINCE COMPRAVENTA).

3. CUELLAR SILVA, John Fredy, Calle Paseo Royal Country 5598-23, Fraccionamiento Royal Country, Zapopan, Jalisco, Mexico; Lopez Cotilla 100 Centro, Guadalajara, Jalisco C.P. 44100, Mexico; DOB 17 May 1976; POB Florencia, Caqueta, Colombia; Cedula No. 79904164 (Colombia); R.F.C. CUSJ760517HNE (Mexico) (individual) [SDNTK] (Linked To: AGRO Y COMERCIO DE SANTA BARBARA LAGROMER S. EN C.; Linked To: COMPANIA AGRO COMERCIAL CUETA S. EN C.; Linked To: INVERSIONES HUNEL LTDA.; Linked To: CASA COMERCIAL ORO RAPIDO; Linked To: CASA DE EMPENO GUADALAJARA, S.A. DE C.V.; Linked To: PRENDA TODO, S.A. DE C.V.).

4. CUELLAR SILVA, Jenny Johanna, Avenida Mexico 3335, Vallarta San Jorge, Guadalajara, Jalisco 44690, Mexico; Clle 57 N 24 72, Bogota, Colombia; Cometa # 2910, Col. Jardines del Bosque, Guadalajara, Jalisco 44520, Mexico; Prados de los Lirios # 4142, Casa 6, Col. Prados Tepeyac, Zapopan, Jalisco 45050, Mexico; DOB 11 Jul 1980; POB Florencia, Caqueta, Colombia; Cedula No. 52708729 (Colombia) (individual) [SDNTK] (Linked To: AGRO Y COMERCIO DE SANTA BARBARA LAGROMER S. EN C.; Linked To: COMPANIA AGRO COMERCIAL CUETA S. EN C.; Linked To: INVERSIONES HUNEL LTDA.; Linked To: PRENDA TODO, S.A. DE C.V.).

5. CUELLAR SILVA, Victor Hugo; DOB 18 Oct 1985; POB Bogota, Colombia; Cedula No. 1032359750 (Colombia) (individual) [SDNTK] (Linked To: AGRO Y COMERCIO DE SANTA BARBARA LAGROMER S. EN C.; Linked To: COMPANIA AGRO COMERCIAL CUETA S. EN C.; Linked To: INVERSIONES HUNEL LTDA.; Linked To: HOTEL PARAISO RESORT EN ARRENDAMIENTO; Linked To: PRENDA TODO, S.A. DE C.V.).

6. MIRAMONTES GUTIERREZ, Ofelia Margarita, Calle Paseo del Ocelote 161, Fraccionamiento Bugambilias, Zapopan, Jalisco, Mexico; DOB 24 Apr 1968; POB Guadalajara, Jalisco, Mexico; C.U.R.P. MIGO680424MJCRTF03 (Mexico) (individual) [SDNTK] (Linked To: AGRICOLA Y GANADERA CUEMIR, S.P.R. DE R.I.; Linked To: COOPERATIVA AVESTRUZ CUEMIR, S.C. DE R.L. DE C.V.).

7. VARGAS NUNEZ, Lucy Amparo (a.k.a. VARGAS DE CUADROS, Lucy Amparo), Kra 3 N 2B-22, Barrio Los Amigos, El Colegio, Cundinamarca, Colombia; DOB 26 Mar 1958; POB San Pedro, Valle, Colombia; Cedula No. 38858512 (Colombia) (individual) [SDNTK] (Linked To: AGRO Y COMERCIO DE SANTA BARBARA LAGROMER S. EN C.; Linked To: COMPANIA AGRO COMERCIAL CUETA S. EN C.; Linked To: INVERSIONES HUNEL LTDA.).

Entities

1. AGRICOLA Y GANADERA CUEMIR, S.P.R. DE R.I. (a.k.a. RANCHO LA HERRADURA CUEMIR), Av. Prolongacion Vallarta No. 600, Zona Centro, Tlajomulco de Zuniga, Jalisco C.P. 45640, Mexico; Folio Mercantil No. 17919-1 (Mexico) [SDNTK].

2. AGRO Y COMERCIO DE SANTA BARBARA LAGROMER S. EN C., Cl 57 No. 24-72 Of 102 P 2, Bogota, Colombia; NIT # 800016670-7 (Colombia) [SDNTK].

3. CASA COMERCIAL ORO RAPIDO, Cra. 11 # 13-28, Girardot, Cundinamarca, Colombia; Matricula Mercantil No 19022 (Colombia) [SDNTK].

4. CASA COMERCIAL UNI QUINCE COMPRAVENTA, Av. 15 No. 124-09 LC 102, Bogota, Colombia; Matricula Mercantil No 00666561 (Colombia) [SDNTK].

5. CASA DE EMPENO GUADALAJARA, S.A. DE C.V. (a.k.a. EMPENOS PRESTAFACIL), Av. Lopez Cotilla No. 100, Col. Centro, Guadalajara, Jalisco C.P. 44100, Mexico; Av. De La Mancha No. 738, Col. Lomas de Zapopan, Zapopan, Jalisco C.P. 45130, Mexico; R.F.C. CEG-000629-9H7 (Mexico); Folio Mercantil No. 4243-1 (Mexico) [SDNTK].

6. COMPANIA AGRO COMERCIAL CUETA S. EN C., Cl 57 No. 24-72 Local 102, Bogota, Colombia; NIT # 800007394-0 (Colombia) [SDNTK].

7. COOPERATIVA AVESTRUZ CUEMIR, S.C. DE R.L. DE C.V., Av. Prolongacion Vallarta No. 600 A, Zona Centro, Tlajomulco de Zuniga, Jalisco C.P. 45640, Mexico; Folio Mercantil No. 42877-1 (Mexico) [SDNTK].

8. HOTEL PARAISO RESORT EN ARRENDAMIENTO, Calle 3 No. 1-33/17, Rivera, Huila, Colombia; Matricula Mercantil No 0000104026 (Colombia) [SDNTK].

9. INVERSIONES HUNEL LTDA., Cl 57 No. 24-72, Bogota, Colombia; NIT # 800223039-6 (Colombia) [SDNTK].

10. PRENDA TODO, S.A. DE C.V. (a.k.a. CASA DE EMPENO PRENDA TODO), Andador Medrano 2845, Guadalajara Centro, Guadalajara, Jalisco 44100, Mexico; Medrano # 2845, Col. San Andres, Guadalajara, Jalisco C.P. 44410, Mexico; Zacarias Rubio No. 1609, San Miguel de Huentitan El Alto, Guadalajara, Jalisco 44780, Mexico; R.F.C. PTO000504DM5 (Mexico); Folio Mercantil No. 4495-1 (Mexico) [SDNTK].

Dated: February 27, 2014.
Adam J. Szubin,
Director, Office of Foreign Assets Control.

[FR Doc. 2014-04818 Filed 3-4-14; 8:45 am]

BILLING CODE 4810-AL-P